ENVIRONMENTAL PROTECTION AGENCY

40 CFR Part 52

[EPA-R01-OAR-2019-0695; FRL-10009-41-Region 1]

Air Plan Approval; Massachusetts; Infrastructure State Implementation Plan Requirements for the 2015 Ozone Standard; Withdrawal of Direct Final Rule

AGENCY: Environmental Protection Agency (EPA).

ACTION: Withdrawal of direct final rule.

SUMMARY: Due to the receipt of an adverse comment, the Environmental Protection Agency (EPA) is withdrawing the March 13, 2020 direct final rule approving a State Implementation Plan (SIP) revision submitted by the Commonwealth of Massachusetts. Massachusetts' SIP revision approved the infrastructure requirements to demonstrate the Commonwealth has the necessary resources to comply with the 2015 ozone National Ambient Air Quality Standard. This action is being taken in accordance with the Clean Air Act.

DATES: The direct final rule published at 85 FR 14578 on March 13, 2020 is withdrawn effective May 12, 2020.

FOR FURTHER INFORMATION CONTACT: Eric Rackauskas, Air and Radiation Division (Mail Code 05-2), U.S. Environmental Protection Agency, Region 1, 5 Post Office Square, Suite 100, Boston, Massachusetts, 02109-3912; (617) 918-1628. rackauskas.eric@epa.gov.

SUPPLEMENTARY INFORMATION: In the direct final rule, EPA stated that if adverse comments were submitted by April 13, 2020, the rule would be withdrawn and not take effect. EPA received an adverse comment prior to the close of the comment period and, therefore, is withdrawing the direct final rule. EPA will address the comment in a subsequent final action based upon the proposed rule also published on March 13, 2020 (85 FR 14605). EPA will not institute a second comment period on this action. EPA also received a request for an indefinite extension of the comment period for this action, which we will not be granting, as explained in a memorandum included in the docket for this action.

List of Subjects in 40 CFR Part 52

Environmental protection, Air pollution control, Incorporation by reference, Ozone, Reporting and recordkeeping requirements, Volatile organic compounds.

Dated: May 4, 2020.
Dennis Deziel,
Regional Administrator, EPA Region 1.

PART 52—APPROVAL AND PROMULGATION OF IMPLEMENTATION PLANS

Accordingly, the amendments to 40 CFR 52.1120 published at 85 FR 14578 on March 13, 2020, are withdrawn effective May 12, 2020.

[FR Doc. 2020-09904 Filed 5-11-20; 8:45 am]

BILLING CODE 6560-50-P